LIBRARY OF CONGRESS

Copyright Royalty Board

[Docket No. 2007-1 CRB DTRA-BE]

Determination of Rates and Terms for Business Establishment Services

AGENCY: Copyright Royalty Board, Library of Congress.

ACTION: Notice announcing commencement of proceeding with request for Petitions to Participate.

SUMMARY: The Copyright Royalty Judges, on behalf of the Copyright Royalty Board of the Library of Congress, are announcing the commencement of the proceeding to determine the reasonable rates and terms for the making of an ephemeral recording of a sound recording for a later transmission by entities that transmit performances of a sound recording to business establishments. The Judges are also announcing the date by which a party who wishes to participate in this rate proceeding must file its Petition to Participate and the accompanying $150 filing fee.

DATES: Petitions to Participate and the filing fee are due no later than February 5, 2007.

ADDRESSES: An original, five paper copies, and one electronic copy in Portable Document Format (PDF) on compact disk (an optical data storage medium such as a CD-ROM, CD-R or CD-RW) or floppy diskette of a Petition to Participate, along with the $150 filing fee, must be delivered to the Copyright Royalty Board in one of the following ways: If hand delivered by a private party, these items should be brought to the Copyright Office Public Information Office in the James Madison Memorial Building, Room LM-401, 101 Independence Avenue, SE., Monday through Friday, between 8:30 a.m. and 5 p.m., and the envelope must be addressed as follows: Copyright Royalty Board, Library of Congress, James Madison Memorial Building, 101 Independence Avenue, SE., Washington, DC 20559-6000. If delivered by a commercial courier (excluding overnight delivery services such as Federal Express, United Parcel Service and similar overnight delivery services), these items must be delivered to the Congressional Courier Acceptance Site (CCAS) located at 2nd and D Street, NE., Monday through Friday, between 8:30 a.m. and 4 p.m., and the envelope must be addressed as follows: Copyright Royalty Board, Library of Congress, James Madison Memorial Building, 101 Independence Avenue, SE., Washington, DC 20559-6000. If these items are sent by mail (including overnight delivery using United States Postal Service Express Mail), the envelope must be addressed to: Copyright Royalty Board, P.O. Box 70977, Southwest Station, Washington, DC 20024-0977. Petitions to Participate and the $150 filing fee may not be delivered by means of overnight delivery services such as Federal Express, United Parcel Service, etc., due to delays in processing receipt of such deliveries.

FOR FURTHER INFORMATION CONTACT: Gina Giuffreda, Attorney Advisor. Telephone: (202) 707-7658. Telefax: (202) 252-3423.

SUPPLEMENTARY INFORMATION:

Background

This Notice is issued pursuant to 17 U.S.C. 804(b)(2), which requires the commencement of proceedings “in the year 2007 to determine reasonable terms and rates of royalty payments for the activities described in section 112(e)(1) relating to the limitation on exclusive rights specified by section 114(d)(1)(C)(iv), to become effective on January 1, 2009.” Section 112(e)(1) allows entities that transmit performances of sound recordings to business establishments, pursuant to the limitations set forth in section 114(d)(1)(C)(iv), to make an ephemeral recording of a sound recording for purposes of a later transmission. Section 803(b)(1)(A)(II) requires the Copyright Royalty Judges to publish a notice in the Federal Register no later than January 5, 2007, commencing this proceeding.

Petitions to Participate

Any party who wishes to participate in this proceeding must submit to the Copyright Royalty Board a Petition to Participate by no later than February 5, 2007. 17 U.S.C. 803(b)(1)(A)(ii). The single or joint Petition to Participate must provide all of the information required by 37 CFR 351.1(b)(1). The Petition to Participate must be accompanied by a $150 filing fee. Cash will not be accepted; therefore, parties must pay the filing fee with a check or money order made payable to “Copyright Royalty Board.” If a check received in payment of the filing fee is returned for lack of sufficient funds, the corresponding Petition to Participate will be dismissed. Note that in accordance with 37 CFR 350.2 (Representation), only attorneys who are members of the bar in one or more states and in good standing will be allowed to represent parties before the Copyright Royalty Judges if a party does not solely represent him or herself.

Dated: December 27, 2006.
James Scott Sledge,
Chief Copyright Royalty Judge.

[FR Doc. E6-22499 Filed 1-4-07; 8:45 am]

BILLING CODE 1410-72-P